DEPARTMENT OF TRANSPORTATION

Office of the Secretary

In the Matter of the Trade Name Issued to Hyannis Air Service, Inc. d/b/a Cape Air d/b/a Nantucket Airlines

AGENCY: Department of Transportation.

ACTION: Notice of Order to Show Cause (Order 2006-6-36), Docket OST-2006-25256.

SUMMARY: The Department of Transportation is directing all interested persons to show cause why it should not issue an order revoking the registration of the trade name “Nantucket Shuttle” issued to Hyannis Air Service, Inc. d/b/a Cape Air d/b/a Nantucket Airlines.

DATES: Persons wishing to file objections should do so no later than July 12, 2006.

ADDRESSES: Objections and answers to objections should be filed in Docket OST-2006-25256 and addressed to U.S. Department of Transportation, Docket Operations, (M-30, Room PL-401), 400 Seventh Street, SW., Washington, DC 20590, and should be served upon the parties listed in Attachment A to the order.

FOR FURTHER INFORMATION CONTACT: William M. Bertram, Chief, Air Carrier Fitness Division (X-56, Room 6401), U.S. Department of Transportation, 400 Seventh Street, SW., Washington, DC 20590, (202) 366-9721.

Dated: June 28, 2006.
Michael W. Reynolds,
Acting Assistant Secretary for Aviation and International Affairs.

[FR Doc. E6-10460 Filed 7-3-06; 8:45 am]

BILLING CODE 4910-9X-P